DEPARTMENT OF THE TREASURY

Open Meeting of the President's Advisory Council on Financial Literacy

AGENCY: Office of Financial Education, Treasury.

ACTION: Notice of meeting.

SUMMARY: The President's Advisory Council on Financial Literacy will convene its sixth meeting on Thursday, December 4, 2008, via teleconference beginning at 2 p.m. Eastern Time. The telephone meeting will be open to the public. Members of the public interested in listening to the meeting should e-mail the Treasury Department at FinancialLiteracyCouncil@do.treas.gov to obtain the information on how to listen to the call. Individuals needing special accommodations to take part because of a disability should notify the contact person listed below.

DATES: The telephone meeting will be held on Thursday, December 4, 2008 at 2 p.m. Eastern Time.

Submission of Writen Comments: The public is invited to submit written statements to the President's Advisory Council on Financial Literacy by any one of the following methods:

Electronic Statements

E-mail FinancialLiteracyCouncil@do.treas.gov; or

Paper Statements

Send paper statements in triplicate to President's Advisory Council on Financial Literacy, Office of Financial Education, Room 1332, Department of the Treasury, 1500 Pennsylvania Avenue, NW., Washington, DC 20220.

In general, the Department will post all statements on its Web site (http://www.treasury.gov/offices/domestic-finance/financial-institution/fin-education/council/index.shtml) without change, including any business or personal information provided such as names, addresses, e-mail addresses, or telephone numbers. The Department will make such statements available for public inspection and copying in the Department's library, Room 1428, Main Department Building, 1500 Pennsylvania Avenue, NW., Washington, DC 20220, on official business days between the hours of 10 a.m. and 5 p.m. You can make an appointment to inspect statements by telephoning (202) 622-0990. All statements, including attachments and other supporting materials, received are part of the public record and subject to public disclosure. You should submit only information that you wish to make available publicly.

FOR FURTHER INFORMATION CONTACT: Tom Kurek, Office of Financial Education, Department of the Treasury, Main Department Building, 1500 Pennsylvania Avenue, NW., Washington, DC 20220, at (202) 622-0204 or Thomas.Kurek@do.treas.gov.

SUPPLEMENTARY INFORMATION: In accordance with section 10(a) of the Federal Advisory Committee Act, 5 U.S.C. App. 2 and the regulations thereunder, Dubis Correal, Designated Federal Officer of the Advisory Council, has ordered publication of this notice that the President's Advisory Council on Financial Literacy will convene its sixth meeting on Thursday, December 4, 2008, via teleconference beginning at 2 p.m. Eastern Time. The meeting will be open to the public. Members of the public who wish to listen to the meeting should contact the Office of Financial Education at FinancialLiteracyCouncil@do.treas.gov by 5 p.m. Eastern Time on November 25, 2008. The primary purpose of this telephone meeting is for the President's Advisory Council on Financial Literacy to discuss the preliminary draft of the President's Advisory Council on Financial Literacy's Annual Report to the President.

Dated: November 3, 2008.
Taiya Smith,
Executive Secretary, Treasury Department.

[FR Doc. E8-27018 Filed 11-13-08; 8:45 am]

BILLING CODE 4810-25-P